OFFICE OF PERSONNEL MANAGEMENT

Proposed Collection; Comment Request for Revision of an Information Collection: RI 38-115

Correction

In notice document 01-1963 appearing on page 7520 in the issue of Tuesday, January 23, 2001, make the following correction:

On page 7520, in the second column, under the heading DATES, the third line “February 22, 2001” should read “March 26, 2001”.

[FR Doc. C1-1963 Filed 2-8-01; 8:45 am]

BILLING CODE 1505-01-D

OFFICE OF PERSONNEL MANAGEMENT

Proposed Collection; Comment Request for Review of a Revised Information Collection: Form RI 95-4

Correction

In notice document 01-1964 appearing on page 7519 in the issue of Tuesday, January 23, 2001, make the following correction:

On page 7519, in the first column, under the heading DATES, in the second line “February 22, 2001” should read “March 26, 2001”.

[FR Doc. C1-1964 Filed 2-8-01; 8:45 am]

BILLING CODE 1505-01-D

SECURITIES AND EXCHANGE COMMISSION

[Release No. 34-43831; File No. SR-NASD-00-72]

Self-Regulatory Organizations; Notice of Filing and Immediate Effectiveness of Proposed Rule Change by the National Association of Securities Dealers, Inc. Relating to Nasdaq's Transaction Credit Pilot Program

January 10, 2001.

Correction

In notice document 01-1410, beginning on page 4882, in the issue of Thursday, January 18, 2001, make the following correction:

On page 4882, in the third column, the docket number is corrected to read as set forth above.

[FR Doc. C1-1410 Filed 2-8-01; 8:45 am]

BILLING CODE 1505-01-D